NATIONAL AERONAUTICS AND SPACE ADMINISTRATION

[Notice: (20-050)]

Heliophysics Advisory Committee; Meeting

AGENCY: National Aeronautics and Space Administration.

ACTION: Notice of meeting.

SUMMARY: In accordance with the Federal Advisory Committee Act, as amended, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Tuesday, June 30, 2020, 11:00 a.m.-5:00 p.m.; Wednesday, July 1, 2020, 11 a.m.-4 p.m., Eastern Time.

ADDRESSES: Virtual meeting via dial-in teleconference and WebEx only.

FOR FURTHER INFORMATION CONTACT: Dr. Janet Kozyra, Designated Federal Officer, Science Mission Directorate, at janet.kozyra@nasa.gov, 202 358-1258.

SUPPLEMENTARY INFORMATION: As noted above, this meeting will be available telephonically and by WebEx only. You must use a touch-tone phone to participate in this meeting. Any interested person must use a touch-tone phone to participate in this meeting. Any interested person may call the USA toll free number 1-800-857-9728, or toll number 1-415-228-3890, passcode 5951905 followed by the # sign to participate in this meeting by telephone on both days. The WebEx link is https://nasaenterprise.webex.com/; the meeting number for both days is 903 615 032 and the password is JuneHPAC2020! (case sensitive).

The agenda for the meeting includes the following topics:

• Heliophysics Division Updates and Mission Highlights

• Decadal Midterm Responses

• 2024 Decadal Planning Activities

• Heliophysics Space Weather Strategy

It is imperative that the meeting be held on these dates to accommodate the scheduling priorities of the key participants.

Patricia Rausch,
Advisory Committee Management Officer, National Aeronautics and Space Administration.

[FR Doc. 2020-11698 Filed 5-29-20; 8:45 am]

BILLING CODE 7510-13-P